INTERNATIONAL TRADE COMMISSION

[Investigation Nos. 701-TA-565 and 731-TA-1341 (Final)]

Hardwood Plywood From China

Determinations

On the basis of the record ¹ developed in the subject investigations, the United States International Trade Commission (“Commission”) determines, pursuant to the Tariff Act of 1930 (“the Act”), that an industry in the United States is materially injured by reason of imports of hardwood plywood from China, provided for in subheadings 4412.10, 4412.31, 4412.32, 4412.39, 4412.94, and 4412.99 of the Harmonized Tariff Schedule of the United States, that have been found by the Department of Commerce (“Commerce”) to be sold in the United States at less than fair value (“LTFV”), and to be subsidized by the government of China.²

¹ The record is defined in sec. 207.2(f) of the Commission's Rules of Practice and Procedure (19 CFR 207.2(f)).

² The Commission also finds that imports subject to Commerce's affirmative critical circumstances determinations are not likely to undermine seriously the remedial effect of the antidumping duty order or the countervailing duty order on hardwood plywood from China.

Background

The Commission, pursuant to sections 705(b) and 735(b) of the Act (19 U.S.C. 1671d(b) and 19 U.S.C. 1673d(b)), instituted these investigations applicable November 18, 2016, following receipt of a petition filed with the Commission and Commerce by the Coalition for Fair Trade of Hardwood Plywood and its individual members.³ The final phase of the investigations was scheduled by the Commission following notification of a preliminary determinations by Commerce that imports of hardwood plywood from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on July 11, 2017 (82 FR 32011). The hearing was held in Washington, DC, on October 26, 2017, and all persons who requested the opportunity were permitted to appear in person or by counsel.

³ Columbia Forest Products, Greensboro, North Carolina; Commonwealth Plywood Inc., Whitehall, New York; Murphy Plywood Co., Eugene, Oregon; Roseburg Forest Products Co., Roseburg, Oregon; States Industries, Inc., Eugene, Oregon; and Timber Products Company, Springfield, Oregon.

The Commission made these determinations pursuant to sections 705(b) and 735(b) of the Act (19 U.S.C. 1671d(b) and 19 U.S.C. 1673d(b)). It completed and filed its determinations in these investigations on December 20, 2017. The views of the Commission are contained in USITC Publication 4747 (December 2017), entitled Hardwood Plywood from China: Investigation Nos. 701-TA-565 and 731-TA-1341 (Final).

By order of the Commission.
Issued: December 20, 2017.
Lisa R. Barton,
Secretary to the Commission.

[FR Doc. 2017-27845 Filed 12-26-17; 8:45 am]

BILLING CODE 7020-02-P